Notice of August 24, 2006

Intention To Enter Into a Free Trade Agreement With Colombia

Consistent with section 2105(a)(1)(A) of the Trade Act of 2002, I have notified the Congress of my intention to enter into a free trade agreement with the Republic of Colombia.

Consistent with section 2105(a)(1)(A) of that Act, this notice shall be published in the Federal Register.

B

THE WHITE HOUSE,

August 24, 2006.

[FR Doc. 06-7221

Filed 8-25-06; 8:45 am]

Billing code 3190-01-M